DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the Rural Utilities Service (RUS) invites comments on the following information collections for which RUS intends to request approval from the Office of Management and Budget (OMB).

DATES: Comments on this notice must be received by November 17, 2008.

FOR FURTHER INFORMATION CONTACT: Michele Brooks, Director, Program Development and Regulatory Analysis, USDA Rural Development, 1400 Independence Ave., SW., STOP 1522, Room 5818, South Building, Washington, DC 20250-1522. Telephone: (202) 690-1078. Fax: (202) 720-8435.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for extension.

Comments are invited on: (a) Whether this collection of information is necessary for the proper performance of the functions of the agency, including whether the information will have practical utility; (b) the accuracy of the agency's estimate of the burden of the collection of information including the validity of the methodology and assumptions used; (c) ways to enhance the quality, utility, and clarity of the information to be collected; and (d) ways to minimize the burden of the collection of information on respondents, including through the use of appropriate automated, electronic, mechanical or other technological collection techniques or other forms of information technology. Comments may be sent to Michele Brooks, Director, Program Development and Regulatory Analysis, USDA Rural Development, STOP 1522, 1400 Independence Ave., SW., Washington, DC 20250-1522. Fax: (202) 720-8435.

Title: Review Rating Summary, RUS Form 300, 7 CFR Part 1730.

OMB Control Number: 0572-0025.

Type of Request: Extension of a currently approved collection.

Abstract: The RUS manages loan programs in accordance with the RE Act of 1936, as amended (7 U.S.C. 901 et seq. ). An important part of safeguarding loan security is to see that RUS financed facilities are being responsibly used, adequately operated, and adequately maintained. Future needs have to be anticipated to ensure that facilities will continue to produce revenue and that loans will be repaid as required by the RUS mortgage. A periodic operations and maintenance (O&M) review, using the RUS Form 300, in accordance with 7 CFR Part 1730, is an effective means for RUS to determine whether the borrowers systems are being properly operated and maintained, thereby protecting the loan collateral. An O&M review is also used to rate facilities and can be used for appraisals of collateral as prescribed by OMB Circular A-129, Policies for Federal Credit Programs and Non-Tax Receivables.

Estimate of Burden: Public reporting burden for this collection of information is estimated to average 4 hours per response.

Respondents: Not-for-profit institutions.

Estimated Number of Respondents: 229.

Estimated Number of Responses per Respondent: 10.

Estimated Total Annual Burden on Respondents: 916 hours.

Title: Use of Consultants Funded by Borrowers, 7 CFR Part 1789.

OMB Control Number: 0572-0115.

Type of Request: Extension of a currently approved collection.

Abstract: Section 18(c) of the Rural Electrification Act of 1936 (RE Act), as amended (7 U.S.C. 901 et seq. ) authorizes RUS to use consultants voluntarily funded by borrowers for financial, legal, engineering and other technical services. Consultants may be used to facilitate timely action on loan applications by borrowers for financial assistance and for approvals required by RUS, pursuant to the terms of outstanding loans, or otherwise. RUS may not require borrowers to fund consultants. The provision of section 18(c) may be utilized only at the borrower's request. This collection of information implements RUS policies and procedures for use of consultants funded by RUS borrowers to facilitate timely action on a borrower's loan application for financial assistance and for RUS approvals.

Estimate of Burden: Public reporting burden for this collection of information is estimated to average 2 hours per response.

Respondents: Not-for-profit institutions; business or other for-profit entities.

Estimated Number of Respondents: 6.

Estimated Number of Responses per Respondent: 1.

Estimated Total Annual Burden on Respondents: 12 hours.

Copies of this information can be obtained from Joyce McNeil, Program Development and Regulatory Analysis at (202) 720-0812. Fax (202) 720-8435.

All responses to this notice will be summarized and included in the request for OMB approval. All comments will also become a matter of public record.

Dated: September 11, 2008.
James M. Andrew,
Administrator, Rural Utilities Service.

[FR Doc. E8-21797 Filed 9-17-08; 8:45 am]

BILLING CODE 3410-15-P